SECURITIES AND EXCHANGE COMMISSION

Sunshine Act Meetings

FEDERAL REGISTER CITATION OF PREVIOUS ANNOUNCEMENT: Publishing in the FR of 1/29/24.

PREVIOUSLY ANNOUNCED TIME AND DATE OF THE MEETING: Wednesday, January 31, 2024, at 10:00 a.m.

CHANGES IN THE MEETING: The Open Meeting scheduled for Wednesday, January 31, 2024, at 10:00 a.m., has been changed to Wednesday, January 31, 2024, at 9:00 a.m.

CONTACT PERSON FOR MORE INFORMATION: For further information; please contact Vanessa A. Countryman from the Office of the Secretary at (202) 551-5400.

Authority: 5 U.S.C. 552b.

Dated: January 25, 2024.
J. Matthew DeLesDernier,
Deputy Secretary.

[FR Doc. 2024-01865 Filed 1-26-24; 11:15 am]

BILLING CODE 8011-01-P